DEPARTMENT OF ENERGY

Federal Energy Regulatory Commission

[Docket Nos. CP01-36-000, CP01-382-000, CP01-52-000 and CP01-383-000

Zia Natural Gas Company, an Operating Division of Natural Gas Processing Company v. Raton Gas Transmission Compnay [Not Consolidated]; Notice of Technical Conference

October 24, 2002.

Correction

In notice document 02-27921 appearing on page 67162 in the issue of Monday, November 4, 2002 make the following correction:

On page 67162, in the third column, the docket number is corrected to read as set forth above.

[FR Doc. C2-27921 Filed 11-13-02; 8:45 am]

BILLING CODE 1505-01-D